DEPARTMENT OF COMMERCE

International Trade Administration

[A-570-869]

Notice of Final Determination of Sales at Less Than Fair Value: Structural Steel Beams From the People's Republic of China

AGENCY: Import Administration, International Trade Administration, Department of Commerce.

ACTION: Notice of final determination of sales at less than fair value.

SUMMARY: On December 28, 2001, the Department of Commerce published its preliminary determination of sales at less than fair value of structural steel beams from the People's Republic of China. The period of investigation is October 1, 2000, through March 31, 2001.

Based on our analysis of the comments received from the respondent and the petitioners, we have made changes in the margin calculations. Therefore, the final determination differs from the preliminary determination. Furthermore, we determine that structural steel beams from the People's Republic of China are being, or are likely to be, sold in the United States at less than fair value, as provided in section 735 of the Tariff Act of 1930, as amended.

EFFECTIVE DATE: May 20, 2002.

FOR FURTHER INFORMATION CONTACT: Lyn Johnson, Catherine Cartsos, or Richard Rimlinger, AD/CVD Enforcement Group I, Office 3, Import Administration, International Trade Administration, U.S. Department of Commerce, 14th Street and Constitution Avenue, NW., Washington, DC 20230; telephone: (202) 482-4733.

SUPPLEMENTARY INFORMATION:

The Applicable Statute and Regulations

Unless otherwise indicated, all citations to the Act, are references to the provisions effective January 1, 1995, the effective date of the amendments made to the Tariff Act of 1930 by the Uruguay Round Agreements Act. In addition, unless otherwise indicated, all citations to the regulations of the Department of Commerce (the Department) are to 19 CFR part 351 (April 2001).

Case History

The preliminary determination in this investigation was issued on December 28, 2001. See Notice of Preliminary Determination of Sales at Less Than Fair Value and Postponement of Final Determination: Structural Steel Beams from The People's Republic of China, 66 FR 67197 (December 28, 2001) (Preliminary Determination).

On January 4, 2002, we issued a supplemental questionnaire to which respondent, Maanshan Iron and Steel Co., Ltd. (Maanshan), responded on January 8, 2002.

On January 7, 2002, the Department received from Maanshan a timely allegation of ministerial errors in the Preliminary Determination. Because we agreed with the respondent's ministerial-error allegations, we revised the margin calculations for the final determination to reflect the correction of these ministerial errors. See the Ministerial Error Comments Decision Memorandum dated January 24, 2002.

In January 2002, we conducted verification of the questionnaire responses of the sole respondent in this case, Maanshan.

On March 15, and 21, 2002, we received a case brief from the respondent and the petitioners (the Committee for Fair Beam Imports and its individual members), respectively. On March 20, 2002, the Department received a letter from the petitioners requesting that all or portions of the case brief submitted by the respondent be stricken from the record of the investigation because it contained new factual information. On March 22, 2002, in accordance with 19 CFR 351.301(b)(1) and (c)(1)(i), we sent a letter notifying the respondent that we were rejecting certain parts of the case brief because it contained untimely filed new factual information. See the letter from Laurie Parkhill dated March 22, 2002, rejecting certain parts of Maanshan's case brief. On March 25, 2002, the petitioners filed a rebuttal brief. On March 26, 2002, Maanshan submitted a rebuttal brief. On the same day it also submitted a revised case brief which redacted the new factual information.

Scope of Investigation

The scope of this investigation covers doubly-symmetric shapes, whether hot-or cold-rolled, drawn, extruded, formed or finished, having at least one dimension of at least 80 mm (3.2 inches or more), whether of carbon or alloy (other than stainless) steel, and whether or not drilled, punched, notched, painted, coated, or clad. These structural steel beams include, but are not limited to, wide-flange beams (“W” shapes), bearing piles (“HP” shapes), standard beams (“S” or “I” shapes), and M-shapes. All the products that meet the physical and metallurgical descriptions provided above are within the scope of this investigation unless otherwise excluded. The following products are outside and/or specifically excluded from the scope of this investigation: (1) Structural steel beams greater than 400 pounds per linear foot, (2) structural steel beams that have a web or section height (also known as depth) over 40 inches, and (3) structural steel beams that have additional weldments, connectors, or attachments to I-sections, H-sections, or pilings; however, if the only additional weldment, connector or attachment on the beam is a shipping brace attached to maintain stability during transportation, the beam is not removed from the scope definition by reason of such additional weldment, connector, or attachment.

The merchandise subject to this investigation is classified in the Harmonized Tariff Schedule of the United States (HTSUS) at subheadings 7216.32.0000, 7216.33.0030, 7216.33.0060, 7216.33.0090, 7216.50.0000, 7216.61.0000, 7216.69.0000, 7216.91.0000, 7216.99.0000, 7228.70.3040, and 7228.70.6000. Although the HTSUS subheadings are provided for convenience and customs purposes, the written description of the merchandise under investigation is dispositive.

Scope Comments

Prior to the preliminary determination in a concurrent structural steel beams investigation requested that the following products be excluded from the scope of the investigations: (1) Beams of grade A913/65 and (2) forklift mast profiles. We preliminarily found that both products fell within the scope of this investigation. Because we have received no further scope comments in this proceeding, we are making a final determination that these products fall within the scope of this investigation. Our analysis has not changed since our preliminary determination.

Period of Investigation

The period of investigation is October 1, 2000, through March 31, 2001.

Analysis of Comments Received

All issues raised in the case briefs by the parties to this proceeding and to which we have responded are listed in the Appendix to this notice and addressed in the Decision Memorandum which is adopted by this notice. Parties can find a complete discussion of the issues raised in this investigation and the corresponding recommendations in this public memorandum, which is on file in the Central Records Unit, room B-099 of the main Commerce Building. In addition, a complete version of the Decision Memorandum can be accessed directly on the Web at http://ia.ita.doc.gov/frn/. The paper copy and electronic version of the Decision Memorandum are identical in content.

Changes Since the Preliminary Determination

Based on findings at verification and analysis of comments we received, we have made the adjustments described below to the margin calculations. See the Decision Memorandum for a discussion of these changes.

(1) We used the revised database files submitted by Manshaan on January 14, 2002, with the exception of revisions we made for the consumption usages of argon, nitrogen, and oxygen (see Comment 2 of the Decision Memorandum).

(2) We have used Bhoruka, an Indian manufacturer of industrial gases, to value oxygen, nitrogen, and argon for Maanshan instead of the United Nations Trade Commodity Statistics (UN Statistics). For the PRC-wide rate, we continue to use the UN Statistics.

(3) We recalculated labor expenses based on eight-hour workdays instead of six-and-a-half-hour workdays.

(4) We included the Steel Authority of India Limited (SAIL) as a surrogate company for valuing selling, general, and administrative costs, overhead costs, and profit; therefore, we calculated a simple average of the financial ratios based on data from SAIL and The Tata Iron and Steel Co. Ltd. (TATA).

(5) We have included commissions and other selling expenses in our calculated financial ratios for TATA since they are standard selling costs and properly categorized under SG&A in TATA's financial statements.

(6) With respect to surrogate values for material inputs, we have made the following changes: (a) We applied more recent data from the United States Geological Survey 2000 Minerals Yearbook to value slag, (b) we used the correct harmonized tariff number to value steel strap, and (c) we used a brokerage and handling cost based on bulk products instead of stainless steel products.

(7) We have excluded factor input prices from Korea, Thailand, and Indonesia when using the Monthly Statistics of the Foreign Trade of India. The Department has found that these countries maintain broadly available, non-industry-specific export subsidies. In prior decisions the Department found that the existence of these subsidies provide sufficient reason to believe or suspect that export prices from these countries are distorted. See Final Determination of Sales at Less Than Fair Value: Certain Automotive Replacement Glass Windshields From the People's Republic of China, 67 FR 6482 (February 12, 2002), and accompanying Issues and Decision Memorandum.

Verification

As provided in section 782(i) of the Act, we verified the information submitted by the respondent for use in our final determination. We used standard verification procedures including examination of relevant accounting and production records, as well as original source documents provided by the respondent.

Separate Rates

In our preliminary determination, we found that the respondent had met the criteria for the application of a separate antidumping duty rate. For a more detailed discussion, see the Department's Preliminary Determination.

PRC-Wide Rate and Adverse Facts Available

For the reasons set forth in the Preliminary Determination, we continue to find that the use of adverse facts available for the calculation of the PRC-wide rate is appropriate. See the Preliminary Determination for further discussion of this topic. As adverse facts available we used price quotations for U.S. price which the petitioners obtained from a producer of the subject merchandise. We corroborated the petitioners' price quotations with data submitted by Maanshan in its questionnaire response. The price quotations fell within the range of export prices reported by Maanshan and are therefore reliable and relevant. For normal value we used the factors of production reported by Maanshan and applied the valuations which we used to calculate normal value for Maanshan, with the exception of the factor valuations which we used for argon, nitrogen, and oxygen. With respect to Maanshan, as explained in response to Comment 2 in the Decision Memorandum, we used values based on the prices charged by an Indian producer of the gases in question. These prices were substantially lower than the average values we derived for argon, nitrogen, and oxygen based on the UN Statistics data and which we used in the Preliminary Determination. As adverse facts available, to calculate the PRC-wide rate, we have continued to value argon, nitrogen, and oxygen using the UN Statistics data because these represent the highest values on record for these particular gases. We have used the highest values for the gases in question as an adverse inference for situations where respondents do not cooperate to the best of their ability. Because this information is based on official data compiled by the United Nations we consider it to be corroborated. Using this data, we have calculated a PRC-wide rate of 89.17 percent.

Final Determination Margins

We determine that the following percentage weighted-average margins exist for the period October 1, 2000, through March 31, 2001:

Manufacturer/exporter | Margin (percent)
Maanshan | 0.00
PRC-wide rate | 89.17

Continuation of Suspension of Liquidation

In accordance with section 735(c)(1)(B) of the Act, we are directing the Customs Service to continue to suspend liquidation of all entries of structural steel beams from the PRC, except for subject merchandise produced and exported by Maanshan (which has no margin and is excluded from this determination), that are entered, or withdrawn from warehouse, for consumption on or after the publication date of this final determination in the Federal Register. The Customs Service shall continue to require a cash deposit or the posting of a bond based on the estimated weighted-average dumping margins shown above. The suspension-of-liquidation instructions will remain in effect until further notice.

ITC Notification

In accordance with section 735(d) of the Act, we will notify the International Trade Commission (ITC) of our determination. As our final determination is affirmative, the ITC will determine, within 45 days, whether these imports are causing material injury, or threat of material injury, to an industry in the United States. If the ITC determines that material injury or threat of injury does not exist, the proceeding will be terminated and all securities posted will be refunded or canceled. If the ITC determines that such injury does exist, the Department will issue an antidumping duty order directing Customs officials to assess antidumping duties on all imports of the subject merchandise entered, or withdrawn from warehouse, for consumption on or after the effective date of the suspension of liquidation.

This notice serves as a reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

We are issuing and publishing this determination and notice in accordance with sections 735(d) and 777(i) of the Act.

Dated: May 13, 2002.
Faryar Shirzad,
Assistant Secretary for Import Administration.

Appendix

A. Comment 1: New Factual Information

B. Comment 2: Valuation of Oxygen, Nitrogen, and Argon

C. Comment 3: Labor Calculation

D. Comment 4: Surrogate-Company Selection for Financial Data

E. Comment 5: Financial-Ratio Calculations

F. Comment 6: By-Product Yields

G. Surrogate Values Selection

Comment 7: Slag

Comment 8: Iron Dust and Iron Scale

Comment 9: Steel Strap

Comment 10: Iron Ore

Comment 11: Brokerage and Handling Expenses

H. Comment 12: Value of Iron Ore

[FR Doc. 02-12590 Filed 5-17-02; 8:45 am]

BILLING CODE 3510-DS-P